DEPARTMENT OF THE INTERIOR

Fish and Wildlife Service

[FWS-R9-IA-2009-N247]

[96300-1671-0000-P5]

Receipt of Applications for Permit

AGENCY: Fish and Wildlife Service, Interior.

ACTION: Notice of receipt of applications for permit.

SUMMARY: We, the U.S. Fish and Wildlife Service, invite the public to comment on the following applications for permits to conduct certain activities with endangered species and/or marine mammals. Both the Endangered Species Act and the Marine Mammal Protection Act require that we invite public comment on these permit applications.

DATES: Written data, comments or requests must be received by December 16, 2009.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Submit your written data, comments, or requests for copies of the complete applications to the address shown in ADDRESSES.

Applicant: Ricardo E. Longoria, Encinal, TX, PRT-192403

The applicant request renewal and amendment of his permit authorizing take, interstate and foreign commerce to include Elds deer (Recurvus eldii), red lechwe (Kobus leche) and Arabian oryx (Oryx leucoryx) from his captive herd for the purpose of enhancement of the survival of the species. This notification covers activities conducted by the applicant over a 5-year period.

Applicant: Pauline L. Kamath, University of California at Berkeley, Berkeley, CA, PRT-218825

The applicant requests a permit to import biological samples from Black rhinoceros (Diceros bicornis) from Etosha Ecological Institute, Okaukuejo, Namibia, for the purpose of scientific research. This notification covers activities conducted by the applicant over a 5-year period.

Applicant: Molly M. Hedgecock, High Point, NC, PRT-220671

The applicant requests a permit to import the sport-hunted trophy of one leopard (Panthera pardus) taken from the wild in the Central African Republic, for the purpose of enhancement of the survival of the species.

Applicant: Brooks J. Puckett, Plano, TX, PRT-226347

The applicant requests a permit to import the sport-hunted trophy of one male black-footed cat (Felis nigripes) taken from the wild in the Republic of South Africa, for the purpose of enhancement of the survival of the species.

Applicant: David K. Reinke, Crawford, CO, PRT-229051

The applicant requests a permit to import the sport-hunted trophy of one male black Rhinoceros (Diceros bicornis) taken from the wild in Namibia, for the purpose of enhancement of the survival of the species.

Applicant: National Zoological Park, Smithsonian Institution, Washington, D.C., PRT-231152

The applicant requests a permit to export one male and one female captive-born Clouded leopard (Neofelis nebulosa) to Howletts Wild Animal Park, United Kingdom, for the purpose of enhancement of the survival of the species.

Applicant: Seneca Park Zoo, Rochester, NY, PRT-231594

The applicant requests a permit to export one male bred-in-captivity Brazilian ocelot (Leopardus pardalis mitis) to the Granby Zoo, Quebec, Canada, for the purpose of enhancement of the survival of the species.

The following applicants each request a permit to import the sport-hunted trophy of one male scimitar-horned oryx (Oryx dammah) culled from a captive herd in the Republic of South Africa, for the purpose of enhancement of the survival of the species.

Applicant: Wilson W. Crook III, Kingwood, TX, PRT-223349

Applicant: Jorge L. Medina, Hawthorne, CA, PRT-228690

The following applicants each request a permit to import the sport-hunted trophy of one male bontebok (Damaliscus pygargus pygargus) culled from a captive herd maintained under the management program of the Republic of South Africa, for the purpose of enhancement of the survival of the species.

Applicant: Edward D. Pylman, Byron Center, MI, PRT-230602

Applicant: Robert B. Spencer, Gilmer, TX, PRT-231522

Marine Mammals

The public is invited to comment on the following application for a permit to conduct certain activities with marine mammals. The application was submitted to satisfy requirements of the Marine Mammal Protection Act of 1972, as amended (16 U.S.C. 1361 et seq.), and the regulations governing marine mammals (50 CFR Part 18). Submit your written data, comments, or requests for copies of the complete applications or requests for a public hearing on these applications to the address shown in ADDRESSES. If you request a hearing, give specific reasons why a hearing would be appropriate. The holding of such a hearing is at the discretion of the Director.

Applicant: David E. Clapham, M.D., Ph.D, Department of Cardiology, Children's Hospital Boston, MA, PRT-227386

The applicant requests a permit to import tissue samples and biological specimens created from tissue samples collected from wild polar bears (Ursus maritimus) for the purpose of scientific research.

Concurrent with publishing this notice in the Federal Register, we are forwarding copies of the above applications to the Marine Mammal Commission and the Committee of Scientific Advisors for their review.

Dated: November 6, 2009.
Lisa J. Lierheimer,
Senior Permit Biologist, Branch of Permits, Division of Management Authority

[FR Doc. E9-27362 Filed 11-13-09; 8:45 am]

BILLING CODE 4310-55-S